FEDERAL MARITIME COMMISSION

Ocean Transportation Intermediary License; Terminations

The Federal Maritime Commission hereby gives notice that the following ocean transportation intermediary licenses have been terminated pursuant to section 19 of the Shipping Act of 1984 (46 U.S.C. app. 1718) and the regulations of the Commission pertaining to the licensing of Ocean Transportation Intermediaries, effective on the corresponding dates shown below:

License Number: 14074N

Name: Bahaghari Express Cargo

Address: 1530-B Industrial Park Street, Covina, CA 91722

Date Revoked: August 24, 2000.

Reason: Failed to maintain a valid bond.

License Number: 2075F

Name: Bethlehem Forwarding Company

Address: 1452 Mercado Avenue, Coral Gables, FL 33146

Date Terminated: August 28, 2000.

Reason: Surrendered license voluntarily.

License Number: 11436N

Name: Blue Ocean Line, Inc. d/b/a Blue Ocean Lines

Address: 40 Exchange Place, 12th Floor, New York, NY 10004

Date Revoked: August 24, 2000.

Reason: Failed to maintain a valid bond.

License Number: 2363F

Name: Cargoza Forwarding Corporation

Address: 2801 N.W. 74th Avenue, #202, Miami, FL 33122

Date Revoked: September 13, 2000.

Reason: Failed to maintain a valid bond.

License Number: 4168F

Name: Continental Express International, Inc.

Address: 7506 S.W. 26th Court, Davie, FL 33314

Date Revoked: September 17, 2000.

Reason: Failed to maintain a valid bond.

License Number: 3482F

Name: Frontier Interational Shipping Company, Inc.

Address: 147-60 175th Street, Jamaica, NY 11434

Date Revoked: August 9, 2000.

Reason: Failed to maintain a valid bond.

License Number : 7842NF

Name: Global Worldwide, Inc.

Address: 810 W. Taft, Orange, CA 92865

Date Revoked: April 15, 2000.

Reason: Failed to maintain a valid bond.

License Number: 9776N

Name: Jewett Cameron Lumber Corporation

Address: P.O. Box 1010, North Plains, OR 97133

Date Revoked: August 25, 2000.

Reason: Failed to maintain a valid bond.

License Number: 16080N

Name: Kenwa Shipping, USA

Address: 701 S. Atlanta Blvd., Suite 200, Monterey, CA 91754

Date Revoked: August 24, 2000.

Reason: Failed to maintain a valid bond.

License Number: 14321N

Name: Kintetsu World Express Latin America Inc.

Address: 8551 NW 30th Terrace (Kintetsu Way), Miami, FL 33122

Date Revoked: September 20, 2000.

Reason: Failed to maintain a valid bond.

License Number: 3719F

Name: KNL International, Inc.

Address: 7710 Wentworth Drive, Duluth, GA 30155

Date Revoked: September 13, 2000.

Reason: Failed to maintain a valid bond.

License Number: 3493NF

Name: Lancer International Corp.

Address: 1766 NW 82nd Avenue, Miami, FL 33126

Date Revoked: September 20, 2000.

Reason: Failed to maintain a valid bond.

License Number: 14343N

Name: Mars Air Freight Ltd.

Address: 175-01 Rockaway Blvd., Suite 300, Jamaica, NY 11434

Date Revoked: September 8, 2000.

Reason: Failed to maintain a valid bond.

License Number: 4572F

Name: Nada Abed d/b/a Export Center

Address: 581 California Street, Newton, MA 02460

Date Revoked: August 27, 2000.

Reason: Failed to maintain a valid bond.

License Number: 3571F

Name: Network Trading, Corp. d/b/a NTC

Address: 9901 NW 106th Street, Medley, FL 33178

Date Revoked: July 28, 2000.

Reason: Failed to maintain a valid bond.

License Number: 13996N

Name: Ocean Masters Inc.

Address: 3546 Montreal Place, Phoenix, AZ 85032-3942

Date Revoked: July 28, 2000.

Reason: Failed to maintain a valid bond.

License Number: 4667F

Name: Oceanair Freight Int'l. Inc.

Address: 509-513 S. Caroline Street, Baltimore, MD 21231

Date Revoked: September 17, 2000.

Reason: Failed to maintain a valid bond.

License Number: 16340N

Name: Pacific & Atlantic Ocean Container Line, Inc.

Address: 45 Rockerfeller Plaza, Suite 3162, New York, NY 10020

Date Revoked: September 10, 2000.

Reason: Failed to maintain a valid bond.

License Number: 4270F

Name: Panamerican All Trading Services, Corp.

Address: 5531 N.W. 72nd Avenue, Miami, FL 33166

Date Revoked: September 3, 2000.

Reason: Failed to maintain a valid bond.

License Number: 4068F

Name: Robinson Expediters, Inc.

Address: 7968 Plantation Blvd., Miramar, FL 33023

Date Terminated: September 7, 2000.

Reason: Surrendered license voluntarily.

License Number: 3144F

Name: Robo Cellular, Inc. d/b/a Robo Company

Address: 24309 Narbonne Avenue, Suite 200, Lomita, CA 90717

Date Revoked: August 13, 2000.

Reason: Failed to maintain a valid bond.

License Number: 3958NF

Name: Romi's Express, Inc.

Address: 1757 N.W. 79th Avenue, Miami, FL 33126-1112

Date Revoked: September 13, 2000.

Reason: Failed to maintain a valid bond.

License Number: 4293F

Name: Sea Inland Air International Inc.

Address: 9230 N.W. 12th Street, Miami, FL 33172

Date Revoked: August 16, 2000.

Reason: Failed to maintain a valid bond.

License Number: 9404N

Name: Seagate Shipping Lines, Inc.

Address: 72 Linda Avenue, Suite 106, Staten Island, NY 10305

Date Revoked: September 18, 2000.

Reason: Failed to maintain a valid bond.

License Number: 3506F

Name: Shannon International, Inc.

Address: 4110 Walker Avenue, Greensboro, NC 27407

Date Revoked: August 16, 2000.

Reason: Failed to maintain a valid bond.

License Number: 13217N

Name: Steve Dinh d/b/a American Container Line

Address: 1340 Tully Road, Suite 313, San Jose, CA 95122

Date Revoked: September 7, 2000.

Reason: Failed to maintain a valid bond.

License Number: 14875N

Name: Sun Ocean Lines, Inc.

Address: 7508 NW 54th Street, Miami, FL 33166

Date Revoked: August 16, 2000.

Reason: Failed to maintain a valid bond.

License Number: 13929N

Name: Sunrise American Shipping, Corp.

Address: 5437 NW 72nd Avenue, Miami, FL 33166

Date Revoked: September 1, 2000.

Reason: Failed to maintain a valid bond.

License Number: 3757F

Name: Trans-Global Logistics, Corp.

Address: 3121 NW 125th Street, Miami, FL 33167-2522

Date Revoked: July 27, 2000.

Reason: Failed to maintain a valid bond.

License Number: 2997F

Name: Virginia A. Miller & Company, Inc.

Address: c/o Alexis M. Sparks, 13502 Chimney Sweep Drive, Houston, TX 77041

Date Revoked: September 20, 2000.

Reason: Failed to maintain a valid bond.

License Number: 0469F

Name: Wilmington Shipping Company d/b/a Southern Overseas Corporation

Address: 330 Shipyard, P.O. Box 1809, Wilmington, NC 24802-1809

Date Revoked: September 20, 2000.

Reason: Failed to maintain a valid bond.

Sandra L. Kusumoto,
Director, Bureau of Consumer Complaints and Licensing.

[FR Doc. 00-26233 Filed 10-11-00; 8:45 am]

BILLING CODE 6730-01-P